DEPARTMENT OF TRANSPORTATION

Maritime Administration

[Docket No. MARAD-2006-25457]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before September 25, 2006.

FOR FURTHER INFORMATION CONTACT: Michael Franklin, Maritime Administration, (MAR-610), 400 Seventh St., SW., Washington, DC 20590. Telephone: 202-366-2628, fax: 202-366-3954; or e-mail: michael.franklin@dot.gov. Copies of this collection can also be obtained from that office.

SUPPLEMENTARY INFORMATION: Title of Collection: Automated Mutual-Assistance Vessel Rescue System (AMVER).

Type of Request: Extension of currently approved information collection.

OMB Control Number: 2133-0025.

Form Numbers: None.

Expiration Date of Approval: Three years from date of approval by the Office of Management and Budget.

Summary of Collection of Information. This collection of information is used to gather information regarding the location of U.S.-flag vessels and certain other U.S. citizen-owned vessels for the purpose of search and rescue in the saving of lives at sea and for the marshalling of ships for national defense and safety purposes.

Need and Use of the Information: This information collection is necessary for maintaining a current plot of U.S.-flag and U.S.-owned vessels.

Description of Respondents: Respondents are U.S.-flag and U.S. citizen-owned vessels.

Annual Responses: 29,280 responses.

Annual Burden: 2,342 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

(Authority: 49 CFR 1.66)

By Order of the Maritime Administrator.
Dated: July 21, 2006.
Joel C. Richard,
Secretary, Maritime Administration.

[FR Doc. E6-12033 Filed 7-26-06; 8:45 am]

BILLING CODE 4910-81-P